DEPARTMENT OF COMMERCE

United States Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Trademark Trial and Appeal Board (TTAB) Actions (formerly Petition to Cancel).

Form Number(s): N/A.

Agency Approval Number: 0651-0040.

Type of Request: Extension of a currently approved collection.

Burden: 17,179 hours annually.

Number of Respondents: 61,572 responses per year. The USPTO estimates that of this total, 9,863 notices of opposition, 50,000 requests for extension of time to file an opposition, and 1,709 petitions to cancel a trademark registration will be submitted per year.

Avg. Hours Per Response: The USPTO estimates that it will take the public 45 minutes to complete a notice of opposition, 10 minutes to complete a request for an extension of time to file an opposition, and 45 minutes to complete a petition to cancel a trademark registration. This includes time to gather the necessary information, create the documents, and submit the completed requests.

Needs and Uses: Any individual or entity, believing that they are or will be damaged by the registration of a trademark or service mark, may file an opposition to the registration of a mark or a request for an extension of time to file an opposition under Section 13 of the Trademark Act, 15 U.S.C. 1063. Section 14 of the Trademark Act, 15 U.S.C. 1064, allows individuals and entities to file a petition to cancel the registration of a mark. The USPTO administers the Trademark Act according to 37 CFR Part 2. These actions are governed by the Trademark Trial and Appeal Board (TTAB), an administrative tribunal empowered to determine the right to register and subsequently determine the validity of a trademark. If a mark is successfully opposed or canceled, registration will not take place. There are no forms associated with this collection.

Affected Public: Individuals or households; business or other for-profit; not-for-profit institutions; farms; the federal Government; and state, local or tribal Government.

Frequency: On occasion.

Respondent's Obligation: Required to obtain or retain benefits.

OMB Desk Officer: David Rostker, (202) 395-3897.

Copies of the above information collection proposal can be obtained by calling or writing Susan K. Brown, Records Officer, Office of Data Management, Data Administration Division, (703) 308-7400, USPTO, Suite 310, 2231 Crystal Drive, Washington, DC 20231, or by e-mail at susan.brown@uspto.gov.

Written comments and recommendations for the proposed information collection should be sent on or before March 5, 2001, to David Rostker, OMB Desk Officer, Room 10202, New Executive Office Building, Washington, D.C. 20503.

Dated: January 24, 2001.
Susan K. Brown,
Records Officer, USPTO, Office of Data Management, Data Administration Division.

[FR Doc. 01-2715 Filed 1-31-01; 8:45 am]

BILLING CODE 3510-16-U